CONSUMER PRODUCT SAFETY COMMISSION

[Docket No. CPSC-2018-0002]

Agency Information Collection Activities; Proposed Collection; Comment Request; CPSC Playground Surfaces Survey

AGENCY: Consumer Product Safety Commission.

ACTION: Notice.

SUMMARY: The Consumer Product Safety Commission (CPSC or Commission) is announcing an opportunity for public comment on a new proposed collection of information by the agency. Under the Paperwork Reduction Act of 1995 (PRA), federal agencies are required to publish notice in the Federal Register for each proposed collection of information and to allow 60 days for public comment in response to the notice. This notice solicits comments on a survey that will assess children's potential exposure to playground surfaces, including recycled tire material.

DATES: Submit written or electronic comments on the collection of information by April 6, 2018.

ADDRESSES: You may submit comments, identified by Docket No. CPSC-2018-0002, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/hand delivery/courier to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2018-0002, into the “Search” box, and follow the prompts. A copy of the draft survey is available at http://www.regulations.gov under Docket No. CPSC-2018-0002, Supporting and Related Material.

FOR FURTHER INFORMATION CONTACT: Charu Krishnan, Consumer Product Safety Commission, 4330 East-West Highway, Bethesda, MD 20814; (301) 504-7221, or by email to: CKrishnan@cpsc.gov.

SUPPLEMENTARY INFORMATION: Under the PRA (44 U.S.C. 3501-3520), federal agencies must obtain approval from the Office of Management and Budget (OMB) for each collection of information they conduct or sponsor. “Collection of information” is defined in 44 U.S.C. 3502(3) and 5 CFR 1320.3(c) and includes agency surveys. Section 3506(c)(2)(A) of the PRA (44 U.S.C. 3506(c)(2)(A)) requires federal agencies to provide a 60-day notice in the Federal Register concerning each proposed collection of information before submitting the collection to OMB for approval. Accordingly, the CPSC is publishing notice of the proposed collection of information set forth in this document.

A. Playground Surfaces Survey

The Commission is authorized under section 5(a) of the Consumer Product Safety Act (CPSA), 15 U.S.C. 2054(a), to conduct studies and investigations relating to the causes and prevention of deaths, accidents, injuries, illnesses, other health impairments, and economic losses associated with consumer products. Section 5(b) of the CPSA, 15 U.S.C. 2054(b), further provides that the Commission may conduct research, studies, and investigations on the safety of consumer products or test consumer products and develop product safety test methods and testing devices.

The use of recycled tire material or “tire crumb” rubber is commonplace for many athletic fields, as well as children's playgrounds. Playground surfaces derived from recycled tires are a popular option due to their low maintenance, variety of colors and designs, and ability to reduce the impacts from falls. The CPSC has received numerous inquiries from consumers and stakeholders regarding the safety of playground surfaces derived from recycled tires. In February 2016, the CPSC, the Environmental Protection Agency (EPA), and the Centers for Disease Control and Prevention (CDC) launched the interagency Federal Research Action Plan on Recycled Tire Crumb Used on Playing Fields and Playgrounds (Plan). One of the Plan's objectives is to identify the potential hazardous chemical exposure to children derived from recycled tire material used regularly on playgrounds throughout the United States. The EPA and CDC will evaluate the chemical hazards of recycled tire materials on athletic playing fields, and the CPSC will assess the level of risk and the extent to which children may be exposed to potential hazard(s) related to recycled tires on playgrounds.

As a first step, in 2016, the CPSC conducted focus groups to gather data from a small sample of parents, childcare providers, and personnel responsible for the inspection and maintenance of playgrounds on their experiences and observations of how children interact with various types of playground surfaces, including those derived from recycled tires.¹ Based on information obtained from these focus groups, the CPSC now proposes to conduct a survey of a nationally representative sample of parents or guardians of children (age 0 to 5) who visit playgrounds to gain a better understanding of potential exposures of playground surfaces on children, based on children's play behaviors on playgrounds. Exposure may include skin contact, ingestion, and potential contact through open wounds. With the data received from EPA and CDC regarding potential chemical hazards in recycled tires, and the information from the survey, CPSC staff plans to evaluate the extent children may be exposed to potential hazards related to tire crumb rubber and the level of risk from that exposure. This survey will help inform CPSC staff's analysis regarding playground surfaces derived from recycled tires. CPSC staff may also design future studies based on the information collected from the survey.

¹ Approved by OMB under Control Number 3041-0136.

CPSC has contracted with the Fors Marsh Group, LLC (FMG) to design the survey. SSRS, LLC will program and administer the final survey. Trained interviewers will dial and conduct the survey using a computer-assisted telephone interview (CATI) system, in a secure location, to which only authorized personnel have access. Participants will be recruited by re-contacting respondents of the SSRS Omnibus. The SSRS Omnibus is a national, weekly, dual-frame bilingual RDD telephone survey designed to meet standards of quality associated with custom research studies. Each weekly wave of the SSRS Omnibus consists of 1,000 interviews; 600 are obtained with respondents on their cell phones, and approximately 35 interviews are completed in Spanish. The topic of the surveys varies week to week. Interviewers will conduct follow-up re-contacts to target specific populations on certain issues. We will use existing data from this sample source to pre-screen individuals in the target population (parents of children who are currently 0-5 years old). These targeted households will be re-contacted to administer the proposed survey. Participants will be re-screened at the beginning of the call to make sure that they meet the target criteria and to identify which subset of questions they will be given for the survey. Participation is voluntary and all responses will be kept confidential.

B. Burden Hours

Each telephone interview will take approximately 20 minutes to complete. We estimate the number of respondents to be 2,200. We estimate the total annual burden hours for respondents to be 726 hours. The monetized hourly cost is $35.28, as defined by the average total hourly cost to employers for employee compensation for employees across all occupations as of June 2017, reported by the Bureau of Labor Statistics. Accordingly, we estimate the total annual cost burden to all respondents to be $25,613. (726 hours × $35.28 = $25,613.28.). The total cost to the federal government for the contract to design and conduct the survey issued to FMG under contract number CPSC-D-16-0002 is $243,593.

C. Request for Comments

The CPSC invites comments on these topics:

• Whether the proposed collection of information is necessary for the proper performance of CPSC's functions, including whether the information will have practical utility;

• The accuracy of CPSC's estimate of the burden of the proposed collection of information, including the validity of the methodology and assumptions used;

• Ways to enhance the quality, utility, and clarity of the information to be collected; and

• Ways to minimize the burden of the collection of information on respondents, including through the use of automated collection techniques, when appropriate, and other forms of information technology.

Alberta E. Mills,
Acting Secretary, Consumer Product Safety Commission.

[FR Doc. 2018-02223 Filed 2-2-18; 8:45 am]

BILLING CODE P